DEPARTMENT OF DEFENSE

Department of the Army; Corps of Engineers

Intent To Prepare a Draft Programmatic Environmental Impact Statement To Analyze a Long Island Sound Dredged Material Management Plan

AGENCY: Department of the Army, U.S. Army Corps of Engineers, DoD.

ACTION: Notice of intent.

SUMMARY: The Draft Programmatic Environmental Impact Statement (DPEIS) will evaluate the overall impacts of various alternatives identified in a Long Island Sound Dredged Material Management Plan (LIS DMMP) for management of dredged material in the Long Island Sound (LIS) region. The overall goal of the LIS DMMP is to develop a comprehensive plan for dredged material management in Long Island Sound using a broad-based public process that protects the environment based on best scientific data and analysis, while meeting society's need for safe and economically viable navigation for water-based commerce, transportation, national security, and other public purposes. The LIS DMMP will identify potential environmentally acceptable, practicable management plans that can be utilized by the Corps of Engineers (Corps) in maintaining Federal navigation projects, as well as various non-Corps dredging proponents in their analysis of options to manage non-Corps dredging projects. Some alternative disposal methods may be implemented on the basis of the PEIS, while others may require additional analysis at the project level. As specific alternatives are put in place to implement a given management option, more detailed National Environmental Policy Act (NEPA) documents may be prepared by the Corps and other Federal agencies, and such NEPA documents will evaluate specific impacts from implementing a particular management option.

ADDRESSES: U.S. Army Corps of Engineers, New England District, 696 Virginia Road, Concord, MA 01742-2751.

FOR FURTHER INFORMATION CONTACT: Questions about the proposed action and DPEIS can be answered by: Mr. Mike Keegan, (978) 318-8657, e-mail: Michael.f.keegan@usace.army.mil.

SUPPLEMENTARY INFORMATION: The Governors of Connecticut and New York, in a joint letter dated February 8, 2005, requested the Corps to develop a regional DMMP for the LIS region. In June 2006, the Corps of Engineers, New England District completed a Preliminary Assessment (PA) to document the need for a comprehensive DMMP for the LIS region. The PA concluded that successful completion of a LIS DMMP is critical to the Corps' ability to maintain the region's civil works navigation projects, and to provide future navigation improvements to the system of Federal waterways in the LIS region. Appropriate future cost-effective management methods and future dredged material capacities must be identified to serve both Federal and non-Federal project needs in this region for the long-term health of the region's economy, including its navigation-dependent industries and activities. The Corps prepares NEPA documents to evaluate the environmental impacts of the actions and alternatives analyzed in dredged material management plans. In preparing the current DPEIS, the Corps expects this document to be used as part of the NEPA analysis for both Corps and non-Corps future dredging projects through tiering and incorporation by reference. Issues to be analyzed in the DPEIS may include potential impacts to: shipping and navigation; commercial and recreational fisheries and shellfisheries; water quality; sediment quality; biological resources, including threatened and endangered species; bioavailability of contaminants; cultural resources; recreational activities such as use of beaches, refuges, and natural areas; wetlands; and other potential habitat restoration opportunities. The DPEIS will be prepared in coordination with other environmental review and consultation requirements under the Clean Water Act, National Historic Preservation Act, Endangered Species Act, Coastal Zone Management Act, and other relevant and appropriate statutes and Executive Orders.

There are many harbors, channels and navigation-dependent facilities in Connecticut and New York within Long Island Sound that must undergo periodic maintenance dredging to ensure safe navigation. Some harbors occasionally must be deepened beyond historical depths to meet changing economic and safety needs. In order to manage all of the dredged material from harbors in the LIS region generated by both Federal and non-Federal interests in the next twenty years, the DMMP and DPEIS will be identifying the potential volume of material and identifying and evaluating alternatives that could be used to manage such a volume of dredged material. Thus, future Federal and non-Federal projects can use the DMMP and its associated PEIS to help satisfy legal requirements of NEPA, the Clean Water Act, and the Marine Protection, Research, and Sanctuaries Act (MPRSA).

The LIS DMMP will include an in-depth planning analysis of reasonable potential dredged material placement/disposal alternatives, including open-water disposal, beneficial use, upland disposal, and treatment technologies, and this analysis will be used as a basis for future individual permit and project approval decisions related to alternatives analysis for dredging in the LIS region. To accomplish this, the LIS DMMP will examine dredging needs, sediment and water quality, disposal alternatives and environmental impacts on a harbor-by-harbor basis. Consistent with the Designation Rule for the Western and Central Long Island Sound Dredged Material Disposal Sites, 40 CFR 228.14(b)(4), the DMMP will be identifying potential procedures and standards for the use of practicable alternatives for dredged material disposal in Long Island Sound. The various alternatives and the information associated with such plans will provide the Corps and other navigation users with an array of feasible options that will meet their dredged material management needs.

The LIS DMMP and DPEIS will identify a practicable, comprehensive and coordinated regional practicable strategy for technically feasible and environmentally sound management of material dredged from Long Island Sound. These documents will identify potential environmentally acceptable, practicable management alternatives that can be utilized by various dredging proponents in their analysis of options to manage dredging projects. These alternatives will likely include, but not be limited to:

• Open-water placement.

• Alternative management strategies for treating or reusing dredged materials, including the use of decontamination and sediment processing technologies.

• Beneficial reuse of dredged material such as:

○ Open and closed landfills;

○ Existing upland dredged material disposal areas;

○ Current or proposed transportation improvements;

○ Temporary dredged material storage;

○ Asphalt, cement and other aggregate use;

○ Large scale development use;

○ Brownfield remediation;

○ Use at closed mines and quarries;

○ Placement at beaches for beneficial use;

○ Agricultural use;

○ Habitat restoration projects.

Full public participation of affected Federal, state, and local agencies, affected Indian tribes, and other interested private organizations and parties is invited. All interested parties are encouraged to submit their names and addresses to (see ADDRESSES), to be placed on the project mailing list to receive fact sheets, newsletters and related public notices. The Corps will hold public scoping meetings later this year or in 2008 at different locations around the LIS region. Topics and issues to be addressed in the DPEIS, identified in part from responses to this Notice of Intent, will be summarized. The public is invited to attend the scoping meetings and identify additional issues that should be addressed in the DPEIS. The actual date, place and time of the scoping meetings will be announced in respective local newspapers and on the Corps New England District Web page.

It is estimated that the Draft PEIS will be made available to the public in the Fall of 2012.

Dated: 22 August 2007.
Lieutenant Colonel Andrew B. Nelson,
Deputy District Commander, U.S. Army Corps of Engineers, New England.

[FR Doc. 07-4274 Filed 8-30-07; 8:45 am]

BILLING CODE 3710-24-M